FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 20, 2019.

A. Federal Reserve Bank of Kansas City (Dennis Denney, Assistant Vice President) 1 Memorial Drive, Kansas City, Missouri 64198-0001:

1. Anderson W. Chandler Trust A Indenture dated July 25, 1996, and Cathleen Chandler Stevenson, individually, and as trustee, both of Dallas, Texas; to retain shares of Fidelity Kansas Bankshares, Inc., Topeka, Kansas and thereby retain shares of Fidelity State Bank, Topeka, Kansas, and be approved as members of the Anderson W. Chandler Family Control Group. In addition, The Ronald N. and Colette C. Gaches Revocable Trust dated June 16, 2016, and Ronald N. Gaches and Colette C. Gaches as trustees, all of Lawrence, Kansas; Cynthia Debra Chandler, Leawood, Kansas; Corliss Chandler Miller Trust dated September 10, 1984, and Corliss Chandler Miller as trustee, both of Prairie Village, Kansas; Lauren C. Stevenson Borgen, Dallas, Texas; Sophia L. Halma, Wheat Ridge, Colorado; Katie Leigh Gaches, Lawrence, Kansas; Jordan C. Gaches, Lawrence, Kansas; Elizabeth Eileen Roberts, Chicago, Illinois; Jeffrey Collins Miller, Charlotte, North Carolina; Spencer C. Hoad, Baltimore, Maryland; David A. Stevenson, Katy, Texas; and Stuart C. Miller, Overland Park, Kansas; to retain voting shares of Fidelity as members of the Anderson W. Chandler Family Control Group.

Board of Governors of the Federal Reserve System, May 30, 2019.
Yao-Chin Chao,
Assistant Secretary of the Board.

[FR Doc. 2019-11617 Filed 6-3-19; 8:45 am]

BILLING CODE P